DEPARTMENT OF ENERGY

Federal Energy Regulatory Commission

[Docket No.AD21-8-000]

Technical Conference on Reassessment of the Electric Quarterly Report Requirements; Notice of Technical Conference

Take notice that on May 19, 2021, the Federal Energy Regulatory Commission (Commission) will convene a staff-led technical conference via webcast as part of a reassessment of the Electric Quarterly Report (EQR) requirements. A supplemental notice will be issued prior to the conference with further details regarding the agenda, meeting registration information, and electronic log-in information.

The purpose of this technical conference is to provide a forum for Commission staff, filers, and data users to discuss potential changes to the current EQR data fields. This technical conference is the second in a series of conferences related to a reassessment of the EQR requirements.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the EQR technical conference, please contact Jeff Sanders of the Commission's Office of Enforcement at (202) 502-6455, or send an email to EQR@ferc.gov. Additional information will also be provided on the EQR web page.

Dated: March 25, 2021.
Nathaniel J. Davis, Sr.,
Deputy Secretary.

[FR Doc. 2021-06618 Filed 3-30-21; 8:45 am]

BILLING CODE 6717-01-P